ENVIRONMENTAL PROTECTION AGENCY

[FRL-10124-01-OA; EPA-HQ-OA-2022-0053]

National Environmental Justice Advisory Council; Notification of Virtual Public Meeting

AGENCY: Environmental Protection Agency (EPA).

ACTION: Notification for a public meeting.

SUMMARY: Pursuant to the Federal Advisory Committee Act (FACA), the U.S. Environmental Protection Agency (EPA) hereby provides notice that the National Environmental Justice Advisory Council (NEJAC) will meet on the date and time described below. The meeting is open to the public. Members of the public are encouraged to provide comments relevant to EPA's pursuit in addressing Environmental Justice and any related topics being considered by the NEJAC. For additional information about registering to attend the meeting or to provide public comment, please see “Registration” under SUPPLEMENTARY INFORMATION. Pre-Registration is required.

DATES: The NEJAC will convene a virtual public meeting on Wednesday, September 28, 2022, from approximately 12:00 p.m. to 6:00 p.m., Eastern Time. The meeting discussions will focus on several topics including, but not limited to, EPA administration priorities, recommendations on EPA's 2021 PFAS (per- and polyfluoroalkyl substances) Strategic Roadmap, and recommendations on community air quality monitoring that provides greater protection, and clean and healthy air to environmental justice communities. A public comment period relevant to the specific issues will be considered by the NEJAC during the meeting (see SUPPLEMENTARY INFORMATION). Members of the public who wish to register to speak during the public comment period must register by 11:59 p.m., Eastern Time, September 21, 2022.

FOR FURTHER INFORMATION CONTACT: Paula Flores-Gregg, NEJAC Designated Federal Officer, U.S. EPA; email: nejac@epa.gov; or by telephone at: (214) 665-8123. Additional information about the NEJAC is available at https://www.epa.gov/environmentaljustice/national-environmental-justice-advisory-council.

SUPPLEMENTARY INFORMATION: The Charter of the NEJAC states that the advisory committee “will provide independent advice and recommendations to the Administrator about broad, crosscutting issues related to environmental justice. The NEJAC's efforts will include evaluation of a broad range of strategic, scientific, technological, regulatory, community engagement and economic issues related to environmental justice.”

Registration: Individual registration is required for the virtual public meeting. No two individuals can share the same registration link. Information on how to register is located at https://www.epa.gov/environmentaljustice/national-environmental-justice-advisory-council-meetings. Registration to attend the meetings is available through the scheduled end time of the meeting day. Registration to speak during the virtual public comment period will close at 11:59 p.m., Eastern Time, September 21, 2022. When registering, please provide your name, organization, city and state, and email address for follow up. Please indicate if you would like to provide oral public comment during the meeting, and if you are submitting written comments at time of registration.

A. Public Comment

The NEJAC is interested in receiving public comments on several topics including, but not limited to, EPA administration priorities and recommendations on EPA's 2021 PFAS (per- and polyfluoroalkyl substances) Strategic Roadmap, and recommendations on community air quality monitoring that provides greater protection, and clean and healthy air to environmental justice communities. Every effort will be made to hear from as many registered public commenters during the time specified on the agenda. Individuals or groups making remarks during the oral public comment period will be limited to three (3) minutes. Please be prepared to briefly describe your comments; including what you want the NEJAC to advise the EPA to do. Submitting written comments for the record are strongly encouraged. You can submit your written comments in three different ways, (1) by using the webform at https://www.epa.gov/environmentaljustice/forms/national-environmental-justice-advisory-council-nejac-public-comment, (2) by sending comments via email to nejac@epa.gov and (3) by creating comments in the Docket ID No. EPA-HQ-OA-2022-0053 at http://www.regulations.gov. Written comments can be submitted through October 12, 2022.

B. Information About Services for Individuals With Disabilities or Requiring English Language Translation Assistance

For information about access or services for individuals requiring assistance, please contact Paula Flores-Gregg, via email at nejac@epa.gov, or contact by phone at (214) 665-8123. To request special accommodations for a disability or other assistance, please submit your request at least seven (7) working days prior to the meeting, to give EPA sufficient time to process your request. All requests should be sent to the address or email listed in the FOR FURTHER INFORMATION CONTACT section.

Matthew Tejada,
Director for the Office of Environmental Justice.

[FR Doc. 2022-17081 Filed 8-8-22; 8:45 am]

BILLING CODE 6560-50-P